DEPARTMENT OF DEFENSE

Office of the Secretary

Extension of Public Comment Period for Draft Environmental Impact Statement for the Continental United States Interceptor Site

AGENCY: Missile Defense Agency, Department of Defense.

ACTION: Notice of public comment period extension.

SUMMARY: The purpose of this notice is to announce an extension to the 45-day public comment period of the Notice of Availability for the Draft Environmental Impact Statement (EIS) for the potential deployment of a Continental United States (CONUS) Interceptor Site (CIS) published by the Missile Defense Agency (MDA) on May 31, 2016 (81 FR 34315-34316). The public comment period is extended 30 days and ends on August 17, 2016.

DATES: The extended 75-day public comment period for the Draft EIS began on June 3, 2016, with the publication of the Notice of Availability in the Federal Register by the U.S. Environmental Protection Agency (81 FR 35761-35762), and with this extension, will end on August 17, 2016.

ADDRESSES: Comments on the Draft EIS should be received by August 17, 2016 by one of the following methods:

• Mail: U.S. Postal Service to: Black & Veatch Special Projects Corp. Attn: MDA CIS EIS, 6800 W. 115th Street, Suite 2200, Overland Park, KS 66211-2420.

• Email: MDA.CIS.EIS@BV.com.

Public comments on the Draft EIS are requested pursuant to the NEPA. All written comments received during the comment period will become part of the public record. Providing private address information with your comment is voluntary and such personal information will be kept confidential unless release is required by law. All comments received by the public, including at public meetings, will be addressed in the Final EIS. A NOA will be published notifying the public of the final EIS.

FOR FURTHER INFORMATION CONTACT: Mr. Christopher Johnson, MDA Public Affairs, at 571-231-8212, or by email: mda.info@mda.mil. For more information, including a downloadable copy of the Draft EIS, visit the MDA Web site at http://www.mda.mil.

SUPPLEMENTARY INFORMATION:

Proposed Action and Alternative: The Department of Defense (DoD) does not have a proposed action and has not made a decision to deploy or construct an additional interceptor site. Current sites in Alaska and California provide the necessary protection of the homeland from a ballistic missile attack by countries such as North Korea and Iran. If the DoD were to make a decision in the future to construct a new site, the prior completion of the required site studies and EIS could shorten the timeline necessary to build such a site.

If deployed, a CIS would be an extension of the existing Ground-based Midcourse Defense (GMD) element of the Ballistic Missile Defense System. To the extent practicable, the CIS would be built as a contiguous Missile Defense Complex, similar to that found at Fort Greely, Alaska, and would consist of a deployment of up to a total of 60 Ground-Based Interceptors (GBIs) in up to three GBI fields. The GBIs would not be fired from their deployment site except in the Nation's defense and no test firing would be conducted at a CIS. The overall system architecture and baseline requirements for a notional CIS include, but are not limited to, the GBI fields, Command Launch Equipment, In-Flight Interceptor Communication System Data Terminals, GMD Communication Network, supporting facilities, such as lodging and dining, recreation, warehouse and bulk storage, vehicle storage and maintenance, fire station, hazardous materials/waste storage, and roads and parking where necessary.

Candidate site locations under consideration include: Fort Custer Training Center in Michigan; Camp Ravenna Joint Military Training Center in Ohio; and Fort Drum in New York. Earlier this year, MDA designated the Center for Security Forces Detachment Kittery Survival, Evasion, Resistance and Escape Facility (SERE East) in Redington Township, Maine, as an Alternative Considered, but Not Carried Forward. The Draft EIS also analyzed a No Action Alternative or no CIS deployment. The DoD has not made a decision to deploy or construct a CIS and does not have a preferred alternative.

For each of the candidate site locations, the following resource areas were assessed: Air quality, air space, biological, cultural, environmental justice, geology and soils, hazardous materials and hazardous waste management, health and safety, land use, noise, socioeconomics, transportation, utilities, water, wetlands, and visual and aesthetics.

Dated: July 11, 2016.
Aaron Siegel,
Alternate OSD Federal Register Liaison Officer, Department of Defense.

[FR Doc. 2016-16686 Filed 7-14-16; 8:45 am]

BILLING CODE 5001-06-P